NATIONAL SCIENCE FOUNDATION

Notice of Permit Applications Received Under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 part 670 of the Code of Federal Regulations. This is the required notice of a requested permit modification.

DATES: Interested parties are invited to submit written data, comments, or views with respect to this permit application by June 23, 2011. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (2011-001) to Dr. Steven D. Emslie on April 27 2011. The issued permit allows the applicant access to numerous Antarctic Specially Protected Areas (ASPA's) in the Antarctic Peninsula and McMurdo Sound/Ross Sea area to visit abandoned and active penguin colonies to excavate organic remains (bones, tissue, feathers, eggshell fragments, otoliths, squid beaks and other prey remains. Access to the ASPA is on an opportunistic basis.

The applicant requests a modification to his permit to add two additional ASPA's in the Ross Sea regions (ASPA 158—Cape Adair and ASPA 160—Cape Geology) in case there is an opportunity to access the sites.

Location: Ross Sea and McMurdo Sound area and the Antarctic Peninsula regions.

Dates: October 1, 2011 to September 30, 2012.

Nadene G. Kennedy,
Permit Officer, Office of Polar Programs.

[FR Doc. 2011-12664 Filed 5-23-11; 8:45 am]

BILLING CODE 7555-01-P